INTERNATIONAL TRADE COMMISSION

[Investigation No. 337-TA-776]

In the Matter of Certain Lighting Control Devices Including Dimmer Switches and Parts Thereof (IV); Notice of Commission Decision Not To Review an Initial Determination Granting a Joint Motion To Amend the Notice of Investigation

AGENCY: U.S. International Trade Commission.

ACTION: Notice.

SUMMARY: Notice is hereby given that the U.S. International Trade Commission has determined not to review an initial determination (“ID”) (Order No. 9) of the presiding administrative Law Judge (“ALJ”) granting a joint motion to amend the notice of investigation in the above-captioned investigation.

FOR FURTHER INFORMATION CONTACT: Clint Gerdine, Esq., Office of the General Counsel, U.S. International Trade Commission, 500 E Street, SW., Washington, DC 20436, telephone (202) 708-2310. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on June 15, 2011, based on a complaint filed by Lutron Electronics Co., Inc. (“Lutron”) of Coopersburg, Pennsylvania. 76 FR 35015-16. The complaint alleges violations of section 337 of the Tariff Act of 1930, as amended, 19 U.S.C. 1337, in the importation into the United States, the sale for importation, and the sale within the United States after importation of certain lighting control devices including dimmer switches and parts thereof by reason of infringement of certain claims of U.S. Patent Nos. 5,637,930 and 5,248,919. The complaint further alleges the existence of a domestic industry. The Commission's notice of investigation named several respondents including Elemental LED, LLC (“Elemental”) and Diode LED (“Diode”) of Emeryville, California.

On July 21, 2011, Lutron and respondents Elemental and Diode filed a joint motion to amend the notice of investigation to consolidate the named respondents Elemental and Diode into Elemental LED, LLC d/b/a Diode LED.

On August 22, 2011, the ALJ issued the subject ID granting the joint motion to amend notice of investigation. No party petitioned for review of the ID pursuant to 19 CFR 210.43(a). The Commission has determined not to review this ID.

The authority for the Commission's determination is contained in section 337 of the Tariff Act of 1930, as amended, 19 U.S.C. 1337, and in sections 210.14 and 210.42(h) of the Commission's Rules of Practice and Procedure, 19 CFR 210.14, 210.42(h).

Issued: September 9, 2011.
By order of the Commission.
James R. Holbein,
Secretary to the Commission.

[FR Doc. 2011-23612 Filed 9-14-11; 8:45 am]

BILLING CODE 7020-02-P